ENVIRONMENTAL PROTECTION AGENCY

[FRL-8910-1]

Science Advisory Board Staff Office; Notification of a Public Teleconference of the Clean Air Scientific Advisory Committee (CASAC)

AGENCY: Environmental Protection Agency (EPA).

ACTION: Notice.

SUMMARY: The Environmental Protection Agency (EPA) Science Advisory Board (SAB) Staff Office announces a public teleconference of the Clean Air Scientific Advisory Committee to review and approve the draft report of the CASAC Carbon Monoxide Review Panel regarding the review of EPA's Integrated Science Assessment for Carbon Monoxide: First External Review Draft (March 2009).

DATES: The public teleconference will be held on Wednesday, June 17, 2009 from 9 a.m. to 11 a.m. (Eastern Time).

FOR FURTHER INFORMATION CONTACT: Any member of the public who wants further information concerning the CASAC public teleconference may contact Dr. Holly Stallworth, Designated Federal Officer (DFO), EPA Science Advisory Board (1400F), U.S. Environmental Protection Agency, 1200 Pennsylvania Avenue, NW., Washington, DC 20460; via telephone/voice mail (202) 343-9867 or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and National Ambient Air Quality Standards (NAAQS) under sections 108 and 109 of the Act. The CASAC is a Federal advisory committee chartered under the Federal Advisory Committee Act (FACA), as amended, 5 U.S.C., App 2. The CASAC will comply with the provisions of FACA and all appropriate SAB Staff Office procedural policies.

Section 109(d)(1) of the CAA requires that the Agency periodically review and revise, as appropriate, the air quality criteria and the National Ambient Air Quality Standards (NAAQS) for the six “criteria” air pollutants, including carbon monoxide (CO). The CASAC CO Review Panel reviewed EPA's Integrated Science Assessment for Carbon Monoxide (First External Review Draft, March 2009) at a public meeting on May 12-13, 2009 in Chapel Hill, North Carolina (announced in 74 FR 15265-15266). The chartered CASAC will consider the draft report of the CASAC CO Review Panel for approval on the June 17, 2009 teleconference.

Technical Contacts: Any questions concerning EPA's Integrated Science Assessment for Carbon Monoxide should be directed to Dr. Tom Long at long.tom@epa.gov at (919) 541-1880.

Availability of Meeting Materials: A meeting agenda, the CASAC draft report and other materials for the meeting will be placed on the CASAC Web site at http://www.epa.gov/casac. The Integrated Science Assessment for Carbon Monoxide: First External Review Draft (March 2009) is available at http://cfpub.epa.gov/ncea/cfm/recordisplay.cfm?deid=203935.

Procedures for Providing Public Input: Interested members of the public may submit relevant written or oral information for consideration on the topics included in this advisory activity. Oral Statements: To be placed on the public speaker list for the June 17, 2009 meeting, interested parties should notify Dr. Holly Stallworth, DFO, by e-mail no later than June 12, 2009. Individuals making oral statements will be limited to three minutes per speaker. Written Statements: Written statements for the June 17, 2009 meeting should be received in the SAB Staff Office by June 12, 2009, so that the information may be made available to the CASAC Panel for its consideration prior to this meeting. Written statements should be supplied to the DFO in the following formats: One hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: May 19, 2009.
Anthony F. Maciorowski,
Deputy Director, EPA Science Advisory Board Staff Office.

[FR Doc. E9-12477 Filed 5-27-09; 8:45 am]

BILLING CODE 6560-50-P